DEPARTMENT OF HEALTH AND HUMAN SERVICES

Indian Health Service

Request for Public Comment: 60-Day Proposed Information Collection: Indian Health Service Customer Satisfaction Survey

SUMMARY: In compliance with section 3506(c)(2)(A) of the Paperwork Reduction Act of 1995, to provide a 60-day advance opportunity for public comment on proposed information collection projects, the Indian Health Service (IHS) is publishing for comment a summary of a proposed information collection to be submitted to the Office of Management and Budget (OMB) for review.

Proposed Collection

Title: “Indian Health Service Customer Satisfaction Survey.”

Type of Information Collection Request: New collection.

Form Number: None.

Need and Use of the Information Collection: Executive Order 12862, “Setting Customer Service Standards” directs agencies “that provide significant services directly to the public” to “survey customers to determine the kind and quality of services they want and their level of satisfaction with existing services.” The proposed customer satisfaction survey is designed to assess the level of customer (patient) satisfaction with the services provided at IHS-operated health care facilities. Voluntary customer service surveys will be conducted at IHS-operated health care facilities. The information gathered will be used by agency management and staff to identify strengths and weakenesses in current service provision, to plan and redirect resources, to make improvements that are practical and feasible and, to provide vital feedback to local health officials, health boards, and community members regarding customer satisfaction or dissatisfaction with the health care and related services being provided.

Affected Public: Individuals.

Type of Respondents: Individuals.

See Table 1 below for type of data collection instrument, estimated number of respondents, number of responses per respondent, average burden hour per response, and total annual burden hour.

Table 1
Data collection instrument | Estimated Number of respondents | Responses per respondent | Average burden hour per response ¹ | Total annual burden hrs
Customer Satisfaction Survey | 7500 | 1 | ² 0.25 | 1875.0
Total | 7500 | 1 |  | 1875.0
¹ For ease of understanding, burden hours are also provided in actual minutes.
² 15 minutes.

There are no Capital Costs, Operating Costs and/or Maintenance Costs to report for this information collection.

Request for Comments

Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests For Further Information: Send your written comments, requests for more information on the proposed collection or requests to obtain a copy of the data collection instrument(s) and instructions to: Mr. Lance Hodahkwen, Sr., M.P.H., IHS Reports Clearance Officer, 12300 Twinbrook Parkway, Suite 450, Rockville, MD 20852. 1601, call non-toll free (301) 443-5938; send via facsimile to (301) 443-1522, or send your e-mail requests, comments, and return address to: lhodahkw@hqe.ihs.gov.

Comment Due Date: Your comments regarding this information collection are best assured of having their full effect if received on or before June 5, 2000.

Dated: March 28, 2000.
Michael E. Lincoln,
Acting Director.

[FR Doc. 00-8398 Filed 4-5-00; 8:45 am]

BILLING CODE 4160-16-M